DEPARTMENT OF ENERGY

Federal Energy Regulatory Commission

[Docket No. RP01-524-000]

Chandeleur Pipe Line Company; Notice of Tariff Filing and Annual Charge Adjustment

September 5, 2001.

Take notice that on August 28, 2001, Chandeleur Pipe Line Company (Chandeleur) tendered for filing as part of its FERC Gas Tariff, Second Revised Volume No. 1, Twelfth Revised Sheet No. 5, to become effective October 1, 2001.

Chandeleur asserts that this filing is tendered in order to adjust for changes in the ACA unit charge assessed by the Commission to Chandeleur under 18 CFR 382.202.

Chandeleur states that the purpose of this filing is to decrease, through this annual filing, the ACA unit charge collected by Chandeleur from its shippers from a rate of $0.0022 to $0.0021 as directed by the Commission and authorized by 18 CFR 154.402(c).

Any person desiring to be heard or to protest said filing should file a motion to intervene or a protest with the Federal Energy Regulatory Commission, 888 First Street, NE., Washington, DC 20426, in accordance with Sections 385.214 or 385.211 of the Commission's Rules and Regulations. All such motions or protests must be filed on or before September 12, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-22730 Filed 9-10-01; 8:45 am]

BILLING CODE 6717-01-P